DEPARTMENT OF LABOR

Employment and Training Administration

American Recovery and Reinvestment Act of 2009; Notice of Availability of Funds and Solicitation for Grant Applications for Pathways Out of Poverty

Announcement Type: Notice of Solicitation for Grant Applications.

Funding Opportunity Number: SGA/DFA PY 08-19.

Catalog of Federal Domestic Assistance (CFDA) Number: 17.275.

DATES: The closing date for receipt of applications under this announcement is September 29, 2009. Applications must be received no later than 4 p.m. Eastern Time. A Webinar for prospective applicants will be held for this grant competition on July 14, 2009 from 2-3:30 p.m. Eastern Time. Access information for the Webinar will be posted on the ETA Web site at: http://www.workforce3one.org. The Webinar will be recorded and will be accessible for viewing by July 17, 2009 at 3 p.m. Eastern Time, at the Web site above. It is encouraged but not mandatory that applicants attend or view this recording.

ADDRESSES: Mailed applications must be addressed to the U.S. Department of Labor, Employment & Training Administration, Division of Federal Assistance, Attention: Melissa Abdullah, Grants Officer, Reference SGA/DFA PY 08-19, 200 Constitution Avenue, NW., Room N4716, Washington, DC 20210. For complete “Application and Submission Information,” please refer to Section IV.

SUMMARY: The Department of Labor (DOL, or the Department) announces the availability of approximately $150 million in grant funds authorized by the American Recovery and Reinvestment Act of 2009 (the Recovery Act) for projects that provide training and placement services to provide pathways out of poverty and into employment within the industries described in the Supplementary Information, Part B of this SGA. Grantees selected from two separate types of applicants will be funded through this solicitation: (1) National nonprofit entities with networks of local affiliates, coalition members, or other established partners; and (2) local entities. Additional specific eligibility guidance is included in Section III.A, “Eligible Applicants and Required Partnerships.” ETA intends to fund grants ranging from approximately $3 to $8 million for national grantees, and grants ranging from approximately $2 to $4 million for local grantees.

SUPPLEMENTARY INFORMATION:

A. Recovery Act: Competitive Grants for Green Job Training

This section of the SGA provides general background on the American Recovery and Reinvestment Act of 2009 (Recovery Act), the competitive grants funded through the Recovery Act to prepare workers for careers in the energy efficiency and renewable energy industries, and the occupations and industries on which these grants should focus. On February 17, 2009, President Barack Obama signed into law the Recovery Act, through which Congress intended to preserve and create jobs, promote the nation's economic recovery, and assist those most impacted by the recession. Among other funding directed toward the Department, the Recovery Act provides $750 million for a program of competitive grants for worker training and placement in high growth and emerging industries. Of the $750 million allotted for competitive grants, the Recovery Act designates $500 million for projects that prepare workers for careers in the energy efficiency and renewable energy industries described in Section 171(e)(1)(B) of the Workforce Investment Act (WIA). DOL intends to use a portion of the $500 million for providing technical assistance for this program of grants.

The purpose of these green job training grants is to teach workers the skills required in emerging energy efficiency and renewable energy industries. These efforts will lead program participants to job placement while leveraging other Recovery Act investments intended to create jobs and promote economic growth. For additional information about the series of competitive grants for green job training, please refer to Training and Employment Notice (TEN) 44-08 available at http://www.doleta.gov/Recovery/legislation.cfm.

B. Green Industries and Occupations

The Department will award grants to workforce development projects that focus on connecting target populations, including workers affected by significant automotive industry restructuring, to career pathways in green industries. Training programs will prepare individuals for careers in any of the seven energy efficiency and renewable energy industries defined in Section 171(e)(1)(B)(ii) of the WIA, which include:

• The energy-efficient building, construction, and retrofit industries;

• The renewable electric power industry;

• The energy efficient and advanced drive train vehicle industry;

• The biofuels industry;

• The deconstruction and materials use industries;

• The energy efficiency assessment industry serving residential, commercial, or industrial sectors; and

• Manufacturers that produce sustainable products using environmentally sustainable processes and materials.

Additionally, the Department is interested in applicants contributing to our understanding of green industries and jobs that clean and enhance our environment. Initial research supported by the Department of Labor, described later in this SGA, shows that there are “growth, enhanced and emerging” green occupations across a number of industries. Applicants may propose strategies that train for those occupations from among the following industries: Transportation; green construction; environmental protection; sustainable agriculture including healthy food production; forestry; and recycling and waste reduction (see the O*NET report at http://www.onetcenter.org/reports/Green.html). The Department will consider proposals that focus on these occupations within these industries if applicants can offer supporting data demonstrating these are emerging industries which are producing jobs in their communities.

For the purpose of these SGAs, the Department defines energy efficiency and renewable energy as follows. Section 203(b)(2) of the Energy Policy Act of 2005, Public Law 109-58, 119 Stat. 595, defines “renewable energy” as “electric energy generated from solar, wind, biomass, landfill gas, ocean (including tidal, wave, current, and thermal), geothermal, municipal solid waste, or new hydroelectric generation capacity achieved from increased efficiency or additions of new capacity at an existing hydroelectric project.” “Energy efficiency” can be broadly defined as programs aimed at mitigating the use of energy, reducing harmful emissions, and decreasing overall energy consumption.

The Department of Labor's Bureau of Labor Statistics (BLS) is working to develop a definition for green sectors and jobs, which will be used to ensure that workforce development efforts identify and target these green jobs and their training needs. The Department has also supported occupational research that begins to define green jobs, review sectors impacted by green investments and understand how new green technology and materials will affect occupational requirements. The Occupational Information Network (O*NET) project has drafted a research paper titled, Greening of the World of Work: Implications for O*NET-SOC and New and Emerging Occupations. This study reflects three general categories of occupations, based on different consequences of green economy activities and technologies: (1) Existing occupations expected to experience primarily an increase in employment demand; (2) existing occupations with significant change to the work and worker requirements; and (3) new and emerging green occupations. This research may be used as a starting point for identifying green industries and occupations and informing the development of training and job placement programs. For a copy of the O*NET report and a listing of the identified occupations go to http://www.onetcenter.org/reports/Green.html.

C. Working With Other Recovery Act Programs

The Recovery Act made funds available to a number of other Federal programs that will impact the creation and expansion of green jobs. DOL is partnering with other Federal agencies to support the creation of jobs by developing a pipeline of skilled workers in the energy efficiency and renewable energy industries. Where possible, ETA encourages applicants to connect their workforce development strategies to other Recovery Act funded projects that create jobs or impact the skill requirements of existing jobs. ETA recommends that applicants review other parts of the Recovery Act, with a focus on the activities funded through the Department of Energy (Energy), the Environmental Protection Agency (EPA), the Department of Housing and Urban Development (HUD), the Department of Transportation (DOT), the Department of Education (Education) and others. For additional resources and information about our Federal partners, please see Sections VIII.D and VIII.E.

I. Funding Opportunity Description

Competitive grants under this SGA will fund projects that provide training and placement services to prepare individuals seeking pathways out of poverty for careers in the industries described in the Supplementary Information: Part B of this SGA. Grantees selected from two separate types of applicants will be funded through this solicitation: (1) National nonprofit entities with networks of local affiliates, coalition members, or other established partners; and (2) local entities. Populations eligible to receive services through grants funded through this SGA include unemployed individuals, high school dropouts, individuals with a criminal record, and disadvantaged individuals living in areas of high poverty. As part of the technical review process, points will be awarded for applications that demonstrate that the proposed project serves areas of high poverty, as described in Section V.A.1.i, “Statement of Need.”

Successful training programs funded through this SGA will prepare participants for employment within the industries described in Supplementary Information: Part B of this SGA, and will: (1) Include sound recruitment and referral strategies for targeted populations; (2) integrate basic skills and work-readiness training with occupational skills training, as necessary; (3) combine supportive services with training services to help participants overcome barriers to employment, as necessary; and (4) provide training services at times and locations that are easily accessible to targeted populations.

The current economic downturn has impacted individuals in communities across the United States, and has left many workers seeking to transition into new industries or new careers. For individuals who are living below or near the poverty level, the current economic downturn has created a unique set of challenges, and has heightened the need to find pathways out of poverty and into employment. These individuals may lack basic literacy and job readiness skills, and they may face other barriers to employment, such as the need for childcare or transportation.

For individuals who face immense difficulties in meeting their basic needs, finding employment opportunities in today's labor market presents many obstacles. In order to succeed, these individuals need to not only acquire the basic skills that will provide the foundation for their employability, but they also need to learn entry-level technical skills and need access to support systems that allow them to meet the needs of their families while they concentrate on gaining new competencies.

To assist individuals in meeting these challenges, projects funded through this SGA will integrate training and supportive services into cohesive programs that will help target populations find pathways out of poverty and into economic self-sufficiency, through employment in the energy efficiency and renewable energy industries. Despite the economic downturn, these “green” industries present many potential opportunities for individuals to learn new skills and competencies, gain employment, and advance along career pathways.

National and local applicants are expected to implement project activities at the community level. Projects in each community served must be implemented by a strategic partnership that includes, at a minimum: nonprofit organizations, such as community and faith-based organizations; the public workforce investment system; the education and training community; labor organizations; and employers and industry-related organizations. By including all of these types of organizations in a comprehensive partnership, applicants can ensure that they are maximizing available resources for each project, and that individual participants within the project can access an array of training and supportive services that they need to successfully complete training, overcome barriers to employment, obtain jobs and advance along career pathways.

II. Award Information

A. Award Amount

Under this SGA, ETA intends to award approximately $150 million in grant funds. ETA intends to fund grants ranging from approximately $3 to $8 million for national grantees, and grants ranging from approximately $2 to $4 million for local grantees. ETA does not expect to fund any project for less than $2 million. However, this does not preclude funding grants at a lower amount based on the type and the number of quality submissions. ETA will not fund projects for more than $8 million, and applications requesting more than $8 million will be considered nonresponsive. Within the funding ranges specified above, applicants are encouraged to submit proposals for quality projects at whatever funding level is appropriate to the project.

B. Period of Performance

The period of grant performance will be up to 24 months from the date of execution of the grant documents. This performance period includes all necessary implementation and start-up activities as well as participant follow-up. The Department intends that all grantees implement the training and placement programs funded under this SGA as soon as possible. Further, applicants should plan to fully expend grant funds during the period of performance, while ensuring full transparency and accountability for all expenditures.

III. Eligibility Information

A. Eligible Applicants and Required Partnerships

All applicants must have experience serving at least one of the following groups: unemployed individuals, high school dropouts, individuals with criminal records, and/or disadvantaged individuals within areas of high poverty. To be eligible to apply for these grants, applicants must fall into one of two categories: (1) National entities; or (2) local entities. These two applicant types will compete separately for funding under this SGA. ETA expects to publish two SGAs during the summer of 2009: Energy Training Partnerships SGA [SGA/DFA PY 08-18] and the Pathways Out of Poverty SGA [SGA/DFA PY 08-19]. ETA will not fund any one organization as a grantee more than once through these two SGAs. An applicant may choose to submit an application for the Energy Training Partnerships SGA [SGA/DFA PY 08-18] and the Pathways Out of Poverty SGA [SGA/DFA PY 08-19]; however, DOL does not encourage applicants to submit applications to both competitions. An organization that submits an application for one SGA is not precluded from participating as a suggested or required partner in applications submitted in response to the other SGA. Finally, an organization may not submit multiple applications in response to any one SGA. The applicant categories for this SGA, along with the required partnerships for each, are defined below.

1. National Entities

For the purposes of this SGA, applicants qualify as national entities if they are private nonprofit organizations that have the following characteristics: (a) They deliver services through networks of local affiliates, coalition members, or other established partners (such as a network of affiliated community or faith-based organizations); and (b) their local affiliates, coalition members, or other established partners have the ability to provide services in 4 or more States. These entities, along with their partners, are expected to implement projects in multiple communities across the country. In order to apply as a national entity, an applicant must propose a project that serves communities (see Section III.C.2 for the definition of community) located in at least 2 States, with a minimum of 1 community located in each State, and a range of 3-7 total communities served. (For the purposes of this SGA, the term “State” means each of the 50 States of the United States, the District of Columbia, and U.S. territories as defined in Section VI.B.2.iv). By serving a range of 3-7 total communities, national applicants can ensure that each community has adequate funding to implement training and job placement programs. National entities will be required to fund sub-grants or sub-contracts in each designated community, through which the local affiliates, coalition members, or other established partners will implement each project in collaboration with the required partners detailed in Section III.A.3.i.

2. Local Entities

For the purposes of this SGA, applicants qualify as local entities if they are public organizations (such as community colleges or workforce investment boards) or private nonprofit organizations (such as community or faith-based organizations) whose service area is limited to a single sub-State geographic area, such as a neighborhood, city, county, sub-State region, or interstate region comprised of multiple sub-State regions (such as Kansas City). In order to apply as a local entity, an applicant must propose a project that serves one single community (see Section III.C.2 for the definition of community). Local entities must implement the project in collaboration with the required partners detailed in Section III.A.3.i. A local entity that receives an award under this SGA may not receive sub-grant or sub-contract funding through a grant awarded to a national entity under this SGA.

3. Strategic Partnerships

To be eligible for funding under this SGA, national and local applicants must demonstrate that the proposed project will be implemented by a robust strategic partnership.

i. Required Partners

In each community served, the strategic partnership must include at least one entity from each of the following five categories:

• Nonprofit organizations, such as community or faith-based organizations, which have direct access to the targeted populations;

• The public workforce investment system, such as local Workforce Investment Boards and their One Stop systems;

• The education and training community, which includes the continuum of education from secondary schools to community and technical colleges, four-year colleges and universities, apprenticeship programs, technical and vocational training institutions, and other education and training entities;

• Public and private employers and industry-related organizations, including those involved in the industries identified in the Supplementary Information: Part B of this SGA; and

• Labor organizations, including but not limited to labor unions and labor-management organizations that represent the interests of workers in energy efficiency or renewable energy industries.

Applicants that include a labor-management organization as a partner will satisfy the requirement for both the labor organization and the employer/industry-related organization partners.

By including all of these types of organizations in a comprehensive partnership, applicants can ensure that they are maximizing available resources and organizational expertise for each project, and that individual participants within the project have all of the support that they need to successfully complete training, overcome barriers to employment, and obtain jobs and advance along career ladders. These partners can contribute a wide array of knowledge and activities to each project, and should work together to ensure that they leverage each other's expertise and resources. Education and training providers should partner with labor organizations and industry-related organizations to ensure that education and training programs address the skills required for the targeted industries, lead to industry-recognized certificates or credentials if appropriate, and ensure that the training strategies reflect the needs of both workers and employers. Nonprofit organizations can provide a range of services and activities to support local projects, such as delivering supportive services to participants and ensuring that these services are integrated with the education and training strategies. The role of the workforce investment system may include identifying, assessing, and referring candidates for training, connecting and placing participants with employers that have existing job openings, and providing supportive services to support the employment and training needs of participants.

ii. Other Partners

In addition to the required partners listed in Section III.A.3.i, applicants are strongly encouraged to include other partners that can provide resources or expertise to the project. These organizations could include:

• Public Housing Agencies implementing programs through the Department of Housing and Urban Development;

• Community Action Agencies implementing the Department of Energy's Weatherization Assistance Program;

• Organizations implementing projects funded by the Recovery Act that will create or support jobs in the energy efficiency or renewable energy industries;

• National, State, and local foundations, which focus on assisting participants served through the project; and

• State and local social service agencies that provide supportive services to participants served through the project.

B. Cost Sharing

Cost sharing or matching funds are not required as a condition for application, but leveraged resources are strongly encouraged and may affect the applicant's score in section V.A.2 of the evaluation criteria.

C. Other Eligibility Requirements

1. Proposed Activities

The purpose of this SGA is to fund projects providing training, education, and job placement assistance for individuals seeking pathways out of poverty and into employment opportunities in the industries described in the Supplementary Information: Part B of this SGA.

i. Characteristics of Training Activities

All projects must lead to employment for program participants, and must incorporate training activities that:

• Address skills and competencies demanded by the industries described in the Supplementary Information: Part B of this SGA;

• Support participants' advancement along a defined career pathway, such as an articulated career ladder and/or career lattice, if such a pathway exists in the targeted industry or industries;

• Result in an industry-recognized degree or certificate (see definition in Section VI.B.2.iii) that indicates a level of mastery and competence in a given field or function, where such a degree or certificate exists. The degree or certificate awarded to participants should be based on the type of training provided through the grant and the requirements of the targeted occupation, and should be selected based on consultations with employer and labor partners;

• Take place at times and locations that are convenient and easily accessible for the targeted populations;

• As appropriate, integrate occupational training with basic skills training to ensure that participants have the foundational skills necessary to attain and retain employment; and

• As appropriate, integrate training activities with supportive services to ensure that participants have the necessary support to overcome barriers to employment.

In implementing projects that meet the requirements outlined above, applicants may propose a wide range of activities. When designing the proposed activities, DOL encourages applicants to look at program models with previous success in serving disadvantaged individuals, especially those with strong program evaluations showing positive impacts on participants. Promising models include the following:

• Strategies that integrate academic instruction with occupational skills training in a specific career field have shown promising employment and earnings outcomes for low-income young adults. Applicants who are proposing to serve low-income young adults and high school dropouts should consider program models that strongly link opportunities to improve basic literacy and mathematics skills and obtain a high school diploma or GED with work-based learning in the targeted industries.

• Programs for ex-offenders which provide integrated services both before and after release from prison or jail have had positive impacts on employment outcomes.

• Providing on-the-job training with a specific employer who agrees to hire individuals pending successful completion of the training has been an effective way for some programs to place disadvantaged individuals into employment.

ii. Allowable Activities

Allowable activities under this SGA include:

• Classroom occupational training;

• On-the-job training activities, including activities related to transitional jobs programs, that lead to permanent employment;

• The development and implementation of registered apprenticeship and pre-apprenticeship programs;

• Internship programs;

• Customized training;

• Basic skills training, such as adult basic education, English as a second language (ESL), and job readiness training;

• Initial assessment of skill levels, aptitudes, abilities, and supportive service needs;

• Job search and placement assistance, and where appropriate, career counseling;

• Case management services;

• Supportive services that will allow individuals to participate in the training provided through the grant; and

• Updating curriculum to support direct training provided through the grant. Some grants funded under this SGA may produce tangible products and deliverables, such as updates to existing curriculum and outreach materials. Curriculum development is only appropriate if this curriculum is used in direct training and/or education activities provided through this grant and is necessary to achieve the training and employment outcomes proposed for the grant. (See Section IV.E.4 for information regarding intellectual property rights.)

2. Communities To Be Served

Applicants must identify the community or communities that will be served by the grant. National entities must identify targeted communities to be served by their local affiliates, coalition members, or other established partners in at least 2 States, with a minimum of 1 community located in each State, and a range of 3-7 total communities served. Local entities must identify a single community.

For the purposes of this SGA, a community is defined as a geographic area located within one or more contiguous Public Use Microdata Areas (PUMAs), which are geographic statistical areas designated by the U.S. Census Bureau (see Section VIII.A for detailed information and links to Census poverty data). The Department expects that applicants will focus their projects on a geographic portion of a PUMA in order to most effectively serve the specific populations targeted by the project. For urban applications, the Department expects that designated communities will be neighborhoods within cities rather than entire cities. For rural applications, the Department expects that designated communities will be 1-3 entire counties, or American Indian Areas, Alaska Native Areas, or Hawaiian Homelands. There is no requirement for the minimum or maximum size of populations in the designated communities, but the Department anticipates that the communities will have populations that range from 10,000 to 100,000 people.

In order to ensure that high poverty areas receive priority for grant awards, points will be awarded in the technical review process (see Section V.A.1.i for the relevant evaluation criterion) for applications that demonstrate that each Public Use Microdata Area (or other appropriate statistical area for American Indian Areas, Alaska Native Areas, or Hawaiian Homelands, or outlying areas) served by the project has a poverty rate of at least 15%, as demonstrated by data from the Poverty Data.xls spreadsheet available for download at http://www.workforce3one.org/view/2000916359251042484/info.

D. Other Grant Specifications

1. Participants Eligible to Receive Training

This SGA addresses the priorities of both the Recovery Act and the Green Jobs Act by funding projects that provide education and training, job placement, and supportive services to individuals who are seeking pathways out of poverty and into employment in the industries described in the Supplementary Information: Part B of this SGA. Accordingly, projects funded through this solicitation must serve only individuals who are at least 18 years of age and fall into one or more of the following categories:

i. Unemployed individuals;

ii. High school dropouts;

iii. Individuals with a criminal record; and

iv. Disadvantaged individuals within areas of high poverty.

For specific definitions for these target populations, applicants must refer to Section VI.B.

Projects funded through this solicitation must serve individuals who live within the community(ies) to be served (see Section III.C.2 for the definition of community), except that up to 10% of the individuals served may live outside of the community(ies) if the grantee determines that these individuals live in areas of high poverty, which is defined as a PUMA (or other appropriate statistical area) with a poverty rate of 15% or greater.

2. Veterans Priority

The Jobs for Veterans Act (Pub. L. 107-288) provides priority of service to veterans and spouses of certain veterans for the receipt of employment, training, and placement services in any job training program directly funded, in whole or in part, by DOL. Grantees are required to provide priority of services for veterans and eligible spouses pursuant to 20 CFR part 1010, the regulations implementing priority of service for veterans and eligible spouses in Department of Labor job training programs under the Jobs for Veterans Act published at 73 FR 78132 on December 19, 2008. In circumstances where a grant recipient must choose between two equally qualified candidates for training, one of whom is a veteran, the Jobs for Veterans Act requires that grant recipients give the veteran priority of service by admitting him or her into the program. To obtain priority of service a veteran must meet the program's eligibility requirements. Grantees must comply with DOL guidance on veterans' priority. Currently, ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

3. Grantee Training

Grantees are required to participate in all ETA training activities related to orientation, financial management and reporting, performance reporting, product dissemination, and other technical assistance training as appropriate during the life of the grant. These trainings may occur via conference call, webinar, and in-person meetings. Applicants should include costs for two staff to attend two trainings that are each two full days in Washington, DC during the grant's period of performance.

IV. Application and Submission Information

A. How To Obtain an Application Package

This SGA contains all of the information and links to forms needed to apply for grant funding.

B. Content and Form of Application Submission

The proposal will consist of three separate and distinct parts: (I) A cost proposal; (II) a technical proposal; and (III) attachments to the technical proposal. Applications that fail to adhere to the instructions in this section will be considered non-responsive and will not be considered. Please note that it is the applicant's responsibility to ensure that the funding amount requested is consistent across all parts and sub-parts of the application.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• Applicants must supply their D-U-N-S® Number on the SF 424. All applicants for Federal grant and funding opportunities are required to have a D-U-N-S® (Data Universal Numbering System) Number. See Office of Management and Budget (OMB) Notice of Final Policy Issuance, 68 FR 38402, Jun. 27, 2003. The D-U-N-S® Number is a non-indicative, nine-digit number assigned to each business location in the D&B database having a unique, separate, and distinct operation, and is maintained solely by D&B. The D&B D-U-N-S® Number is used by industries and organizations around the world as a global standard for business identification and tracking. If you do not have a D-U-N-S® Number, you can get one for free through the SBS site: http://smallbusiness.dnb.com/webapp/wcs/stores/servlet/Glossary?fLink=glossary&footerflag=y&storeId=10001&indicator=7.

• The SF 424A Budget Information Form (available at http://www07.grants.gov/agencies/forms_repository_information.jsp and http://www.doleta.gov/grants/find_grants.cfm). In preparing the Budget Information Form, the applicant must provide a concise narrative explanation to support the request, explained in detail below.

• Budget Narrative: The budget narrative must provide a description of costs associated with each line item on the SF-424A. It should also include leveraged resources provided to support grant activities. In addition, the applicant should address precisely how the administrative costs support the project goals. The entire Federal grant amount requested should be included on both the SF 424 and SF 424A (not just one year). No leveraged resources should be shown on the SF 424 and SF 424A.

Please note that applicants that fail to provide a SF 424, SF 424A, a D-U-N-S® Number, and a budget narrative will be removed from consideration prior to the technical review process.

• Applicants are also encouraged, but not required, to submit OMB Survey N. 1890-0014: Survey on Ensuring Equal Opportunity for Applicants, which can be found under the Grants.gov, Tips and Resources From Grantors, Department of Labor section at http://www07.grants.gov/applicants/tips_resources_from_grantors.jsp#13 (also referred to as Faith Based EEO Survey PDF Form).

Part II. The Technical Proposal. The Technical Proposal demonstrates the applicant's capability to implement the grant project in accordance with the provisions of this solicitation. The guidelines for the content of the Technical Proposal are provided in Part V.A. of this SGA. The Technical Proposal is limited to 25 double-spaced single-sided pages with 12 point text font and 1 inch margins. Any materials beyond the 25-page limit will not be read. Applicants should number the Technical Proposal beginning with page number 1. Applicants that do not provide Part II, the Technical Proposal of the application will be removed from consideration prior to the technical review process.

Part III. Attachments to the Technical Proposal. In addition to the 25-page Technical Proposal, the applicant must submit a letter or letters of commitment signed by all required partners for each community served (preferably one letter for each community, co-signed by all required partners for that community) that describes the roles and responsibilities of each required partner. Commitment letters must accompany the application. Applicants should not send letters of commitment separately to ETA because these letters will be tracked through a different system and will not be attached to the application for review. ETA will not accept or review general letters of support submitted by organizations or individuals that are not partners in the proposed project and that do not directly identify the specific commitment or roles of the project partners. The applicant must provide an Abstract, not to exceed one page, summarizing the proposed project including applicant name; applicant category (national entity or local entity); project title; identification of the community or communities to be served, including whether the community(ies) are located in urban, suburban, or rural areas; and the funding level requested. These additional materials (commitment letters and one-page abstract) do not count against the 25-page limit for the Technical Proposal, but may not exceed 20 pages. Any additional materials beyond the 20-page limit will not be read.

Applications may be submitted electronically on Grants.gov or in hardcopy by mail or hand delivery. These processes are described in further detail in Section IV.C. Applicants submitting proposals in hardcopy must submit an original signed application (including the SF 424) and one (1) “copy-ready” version free of bindings, staples or protruding tabs to ease in the reproduction of the proposal by DOL. Applicants submitting proposals in hardcopy are also required to provide an identical electronic copy of the proposal on compact disc (CD).

C. Submission Process, Date, Times, and Addresses

The closing date for receipt of applications under this announcement is September 29, 2009. Applications must be received at the address below no later than 4 p.m. Eastern Time. Applications sent by e-mail, telegram, or facsimile (FAX) will not be accepted. Applications that do not meet the conditions set forth in this notice will not be considered. No exceptions to the mailing and delivery requirements set forth in this notice will be granted.

Mailed applications must be addressed to the U.S. Department of Labor, Employment and Training Administration, Division of Federal Assistance, Attention: Donna Kelly, Grant Officer, Reference SGA/DFA, PY 08-19, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov), however, due to the expected increase in system activity resulting from the American Recovery and Reinvestment Act of 2009, applicants are encouraged to use an alternate method to submit grant applications during this heightened period of demand. While not mandatory, DOL encourages the submission of applications through professional overnight delivery service.

Applications that are submitted through Grants.gov must be successfully submitted at http://www.grants.gov no later than 4 p.m. Eastern Time on September 29, 2009, and then subsequently validated by Grants.gov. The submission and validation process is described in more detail below. The process can be complicated and time-consuming. Applicants are strongly advised to initiate the process as soon as possible and to plan for time to resolve technical problems if necessary.

The Department strongly recommends that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. The Department strongly recommends that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission; therefore, sufficient time should be allotted for submission (two business days), and if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues will prevent our ability to consider the application. ETA will attempt to open the document but will not take any additional measures in the event of issues with opening. In such cases, the non-conforming application will not be considered for funding.

Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/e-mail_subscription_signup.jsp.

If applicants encounter a problem with Grants.gov and do not find an answer in any of the other resources, call 1-800-518-4726 to speak to a Customer Support Representative or e-mail support@grants.gov.

Late Applications: For applications submitted on Grants.gov, only applications that have been successfully submitted no later than 4 p.m. Eastern Time on the closing date and successfully validated will be considered. Applicants take a significant risk by waiting to the last day to submit by grants.gov.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to use grant funds for indirect costs incurred the applicant must obtain an Indirect Cost Rate Agreement with its Federal cognizant agency either before or shortly after grant award.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal cognizant agency.

3. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See Training and Employment Guidance Letter number 5-06 for further clarification: http://wdr.doleta.gov/directives/corr_doc.cfm?DOCN=2262.

4. Intellectual Property Rights

The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, grantees must include the following language on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Use of Funds for Supportive Services

Supportive services for adults and dislocated workers are defined at WIA sections 101(46) and 134(e)(2) and (3). They include services such as transportation, child care, dependent care, housing, and needs-related payments that are necessary to enable an individual to participate in training activities funded through this grant. Grantees may only use grant funds to provide these services to individuals who are participating in training services provided through the grant, who are unable to obtain services through other programs providing such services, and when such services are necessary to enable individuals to participate in these training activities. Grantees should ensure that their use of grant funds on supportive services is consistent with their established written policy regarding the provision of supportive services. Grantees may use no more than 5% of their grant funds on these services. However, to support the employment and training needs of the targeted populations, ETA encourages grantees to leverage other sources of funding for supportive services, including WIA Adult formula funds provided under the Recovery Act.

G. Other Submission Requirements

Withdrawal of Applications: Applications may be withdrawn by written notice at any time before an award is made.

V. Application Review Information

A. Evaluation Criteria

This section identifies and describes the criteria that will be used to evaluate the grant proposals. These criteria and point values are:

Criterion | Points
1. Statement of Need | 20
2. Project Management and Organizational Capacity | 15
3. Strategy and Project Work Plan | 45
4. Outcomes and Deliverables | 20

1. Statement of Need (20 Points)

Applicants must fully demonstrate a clear and specific need for the Federal investment in the proposed activities. It is critical throughout this section that applicants are as explicit and specific as possible in citing sources of data and analysis. Points for this section will be awarded based on the following factors:

i. Demonstration of Poverty Rate for Each Community Served (0 or 10 Points)

The applicant identifies the Public Use Microdata Area (PUMA) where each community to be served is located, and provides, for each PUMA, the poverty rate that is listed in the Poverty Data spreadsheet available for download at http://www.workforce3one.org/view/2000916359251042484/info. Applicants will receive 10 points for this subsection if the Poverty Data spreadsheet lists a poverty rate of 15% or more for each PUMA to be served. Otherwise, applicants will receive 0 points for this subsection.

For more information about how to determine the appropriate PUMA, please see the instructions in Section VIII.A. Note that applicants proposing to serve American Indian Areas, Alaska Native Areas, or Hawaiian Homelands may use data from the appropriate statistical areas listed on Tab 2 of the Poverty Data spreadsheet, instead of PUMA-based data listed on Tab 1. Applicants proposing to serve outlying areas should use the data listed on Tab 3 of the Poverty Data spreadsheet. Applicants proposing to serve PUMAs, American Indian Areas, Alaska Native Areas, Hawaiian Homelands, or outlying areas that are not listed in the Poverty Data spreadsheet should utilize, and cite, another appropriate data source for poverty rate information. If the data for the community to be served is on the spreadsheet, that data must be used.

ii. Overview of Current Economy and Workforce (10 Points)

The applicant clearly and fully demonstrates the need for training in each designated community by describing the overall economy and workforce needs for each community. Given the rapidly changing economic conditions that many States and regions are currently facing, applicants should utilize the most current and relevant sources of labor market data available. Points for this subsection will be awarded based on the following factors:

• The applicant fully describes the specific community(ies) that the project will serve, and provides a comprehensive description of the workforce needs in each community, including the unemployment rate(s) and a discussion of any significant layoffs in specific industries, as well as estimates of the number of individuals in each community who are: (a) Unemployed individuals; (b) high school dropouts; (c) individuals with a criminal record; and (d) disadvantaged individuals within areas of high poverty. See Section VI.B.2.iv for definitions of these terms.

• The applicant should provide strong evidence of job seeker need for training by identifying one or more of the populations listed above that the project will target, providing a general description of the current level of skills and educational attainment of those populations, and identifying the specific training needs of those populations.

• The applicant fully identifies other barriers to employment faced by the targeted populations, such as lack of child care and access to transportation.

Applicants may draw from a variety of resources for supporting data, which include but are not limited to: Traditional labor market information, such as projections; industry data; data from trade associations or direct information from the regional industry; and information on the regional economy and other transactional data, such as job vacancies, that are available.

2. Project Management and Organizational Capacity (15 Points)

Applicants must fully describe the capacity of the applicant, its required partners and, if applicable, its local affiliates, coalition members, or other established partners, to effectively staff the proposed initiative. The application must also fully describe the applicant's fiscal, administrative, and performance management capacity to implement the key components of this project, and the track record of the applicant, its required partners, and, if applicable, its local affiliates, coalition members, or other established partners, in implementing projects of similar focus, size, and scope.

Scoring under this criterion will be based on the extent to which applicants provide evidence of the following:

i. Staff Capacity (5 Points)

Applicants should provide strong evidence that the applicant, its required partners, and, if applicable, its local affiliates, coalition members, or other established partners, will have the staff capacity to implement the proposed initiative, including the capacity in each designated community. Discussion should include:

• The proposed staffing pattern for the project, including program management and administrative staff, and program staff involved in each local project, which demonstrates that the role(s) and time commitment of the proposed staff are sufficient to ensure proper direction, management, implementation, and timely completion of each project.

• The applicant must demonstrate that the qualifications and level of experience of the proposed project manager in each community served are sufficient to ensure proper management of the project, where such a project manager has been identified. Where no project manager is identified, applicants should discuss the minimum qualifications and level of experience that will be required of the position.

ii. Fiscal, Administrative, and Performance Management Capacity (5 Points)

Strong evidence that the applicant, its required partners, and, if applicable, its local affiliates, coalition members, or other established partners, have the fiscal, administrative, and performance management capacity to effectively administer this grant. Discussion should include:

• A full description of the applicant's capacity, including its systems, processes, and administrative controls that will enable it to comply with Federal rules and regulations related to the grant's fiscal and administrative requirements.

• A full description of the applicant's capacity, including its systems and processes that will support the grant's performance management requirements through effective tracking of performance outcomes. Applicants should include an explanation of the applicant's processes to collect and manage data in a way that allows for accurate and timely reporting of performance outcomes. Applicants may cite relationships with the public workforce system, as appropriate, to assist with performance reporting, and should describe access to specific data management software and/or resources for performance reporting.

iii. Experience of Applicant (5 Points)

The applicant's demonstrated experience leading or participating significantly in a comprehensive partnership, and the demonstrated experience of the applicant, its required partners, and, if applicable, its local affiliates, coalition members, or other established partners, in implementing and operating training, education, and job placement initiatives of similar focus, size and scope. Discussion should include:

• Specific examples of the applicant's experience in leading or participating significantly in a partnership that included a wide range of stakeholders, including a description of the programmatic goals of the project, and a demonstration of the results achieved by that project.

• Specific examples of the applicant's track record administering Federal, State, and/or local grants, including the programmatic goals and results from these projects; and

• A description of the experience of the applicant, its required partners, and, if applicable, its local affiliates, coalition members, or other established partners, in Federal, State, and/or local projects providing education, training, and placement services to the specific populations noted in Section III.C.3 (unemployed individuals, high school dropouts, individuals with criminal records, and disadvantaged individuals within areas of high poverty), including the programmatic goals and results of the projects.

3. Strategy and Project Work Plan (45 Points)

The applicant should provide a complete, very clear explanation of its proposed strategy and its plans to implement it. The applicant must describe the proposed workforce development strategy in full, explain how the proposed training addresses the applicant's statement of need, and demonstrate how the proposed project will expeditiously and effectively deliver training. ETA is interested in applicants describing any evidence-based research that they considered in designing the strategy. The applicant must present a comprehensive work plan for the project, following the format provided later in this section. Points for this criterion will be awarded for the following factors:

i. Addressing Conditions Described in the Statement of Need, and Targeted Industries and Occupations (5 Points)

• The applicant summarizes the proposed strategy.

• The applicant explains how the proposed project comprehensively addresses the needs and challenges of the targeted populations laid out in the Statement of Need.

• The applicant provides a complete description of the targeted industries and occupations within those industries that the proposed project will focus on, including:

• The specific energy industry(ies) targeted by the project, and an explanation of how the targeted industry(ies) meet the requirements identified in the Supplementary Information: Part B of this SGA;

• The specific occupation in the targeted industries for which participants will be trained, including the work performed by that occupation and its major tasks; and

• The specific knowledge, skills, and/or abilities required by the occupation.

• The applicant fully describes the employment needs of the targeted industries and occupations in the designated community(ies), including: total current and projected employment in the industry; total current and projected employment in the targeted occupations; and the current hiring needs of specific employers and how job seekers served through the project will be placed in those jobs.

ii. Roles and Level of Commitment of Project Partners (10 points)

Scoring on this section will be based on the extent to which the applicant fully demonstrates the breadth and depth of their partners' commitment to the proposed project, by addressing the following factors:

• The applicant fully describes the specific roles of each of the project partners in each community, including training, supportive services, expertise, and/or other activities that partners will contribute to the project.

• The applicant demonstrates a strong partnership by providing, for each community served, the applicant must submit a letter or letters of commitment signed by all required partners (preferably one letter for each community, co-signed by all required partners for that community) that describes the roles, responsibilities, and resources committed by each partner. (See Section IV.B for instructions on submitting letters of commitment).

iii. Proposed Recruitment, Training, Placement, and Retention Strategies (10 points)

• Recruitment: The applicant must provide a comprehensive outreach and recruitment strategy that defines a clear process for finding and referring workers to the training programs. The applicant must clearly identify the populations that will be targeted by the project, and explain how the proposed strategy will enable the project to effectively recruit those populations.

• Training: DOL encourages applicants to base their training strategies on program models that have shown promising outcomes for serving disadvantaged populations. The applicant must provide a detailed explanation of the proposed training activities that describes how the project will comprehensively address the training needs of the targeted populations, including a discussion of how the design of the training activities will account for the current skill level, age, or level of work experience of the targeted populations. The applicant must also describe how the project will address barriers to employment by combining training services with supportive services, such as child care or transportation, as appropriate for each targeted population. The applicant must demonstrate that the project will place participants on a pathway to economic self-sufficiency; that training will focus on the specific industries and occupations it has proposed to target and focuses on skills and competencies demanded by the selected industries and occupations; the project will integrate basic skills training where appropriate, and lead to an appropriate industry-recognized degree or certificate (if such a degree or certificate exists), and employment. Where there is no standardized industry-recognized degree or certificate in place, applicants should provide evidence that such a degree or certificate does not exist and the search they conducted for the degree or certificate. Applicants that provide this evidence will not lose points in the evaluation process.

• Placement: The applicant must provide a clear strategy for placing individuals into employment. The applicant should describe the methods for engaging employers, identifying specific job needs, and referring participants to employers. Wherever possible, the applicant should identify specific employers that indicate plans to hire project participants that complete training.

• Retention: The applicant must provide a clear strategy for job retention. This should include strategies for engaging employers, as well as for identifying the barriers to retention that participants face after placement and for providing them with supportive services to address these barriers.

iv. Leveraged Resources (5 Points)

Applicants should clearly and fully describe any funds and other resources that will be leveraged to support grant activities and how these funds and other resources will be used to contribute to the proposed outcomes for the project, including any leveraged resources related to the provision of supportive services for program participants. This includes funds and other resources leveraged from businesses, labor organizations, education and training providers, and/or Federal, state, and local government programs. Applicants will be scored based on the extent to which they fully demonstrate the amount of leveraged resources provided, the type(s) of leveraged resources provided, the strength of commitment to provide these resources (such as in commitment letters), the breadth and depth of the resources provided, and how well these resources support the proposed grant activities.

v. Project Work Plan (15 Points)

Applicants can earn up to 15 points based on the presentation of a comprehensive project work plan. Factors considered in evaluating the project work plan will include: (1) The presentation of a coherent plan that demonstrates the applicant's complete understanding of all the activities, responsibilities, and costs required to implement each phase of the project and achieve projected outcomes; (2) the demonstrated feasibility and reasonableness of the timeline for accomplishing all necessary implementation activities, including the ability to expeditiously begin training; and, (3) the extent to which the budget aligns with the proposed work plan and is justified with respect to the adequacy and reasonableness of resources requested. Applicants must present this work plan in a table that includes the following categories:

• Project Phase: Lay out the timeline in five phases—Startup, Recruitment, Training, Placement, and Retention.

• Activities: Identify the major activities required to implement each phase of the project. For each activity, include the following information: (a) Start Date; (b) End Date; (c) Project partner(s) that will be primarily responsible for performing each activity; (d) Key tasks associated with each activity; (e) At key project milestones, list the target dates and associated outcomes projected for recruitment, training, placement, and retention activities; and (f) As accurately as possible, list the sub-total budget dollar amount associated with each activity.

4. Outcomes and Deliverables (20 points)

Applicants must demonstrate a results-oriented approach to managing and operating their project by providing projections for all applicable outcome categories relevant to measuring the success or impact of the project, describing the products and deliverables that will be produced as a result of the grant activities, and fully demonstrating the appropriateness and feasibility of achieving these results. Applicants must include projected outcomes, which will be used as goals for the grant. Applicants may earn up to 20 points by comprehensively addressing each of the areas outlined below.

i. Projected Performance Outcomes (5 Points)

Applicants must provide projections and track outcomes for each of the following outcome categories for all participants served with grant funds:

• Total participants served;

• Total number of participants beginning education/training activities;

• Total number of participants that receive basic education services;

• Total number of participants that receive supportive services funded by the grant;

• Total number of participants completing education/training activities;

• Total number of participants that complete education/training activities that receive a degree/certificate;

• Total number of participants that complete education/training activities that are placed into unsubsidized employment;

• Total number of participants that complete education/training activities that are placed into training-related unsubsidized employment; and

• Total number of participants placed in unsubsidized employment who retain an employed status in the first and second quarters following initial placement.

Please note that applicants will need to be prepared to collect participant-level data on individuals who receive training and other services provided through the grant. These data should be the basis for reporting against the outcomes listed above, and may be required for reporting on other employment-related outcomes in the future. ETA will provide appropriate technical assistance to the grantees in collecting these data, including the development of a participant tracking system for the grantees. Please note that in some cases, the data requested below may require appropriate partnerships with state and local workforce investment system entities.

Applicants will be required to collect participants' Social Security numbers as part of individual level data collection. Social security numbers will be used for the calculation of employment history and program outcomes. It is anticipated that by collecting Social Security numbers of participants, ETA will be able to calculate most employment outcomes administratively through the use of Unemployment Insurance wage record information. Applicants must ensure that Social Security numbers will be maintained in a secure and confidential manner.

Applicants should be prepared to collect and report participant-level data from the following categories:

• Demographic and socioeconomic characteristics

• Employment history

• Services provided

• Outcomes achieved

Applicants should describe their capacity to collect both participant level data and aggregate outcomes.

ii. Appropriateness and Feasibility, Degrees or Certificates Resulting From Training, and Deliverables (10 points)

• The applicant must fully demonstrate the appropriateness and feasibility of its projections of the project outcomes by addressing three factors: (1) The extent to which the expected project outcomes are realistic and consistent with the objectives of the project and the needs of the community; (2) the ability of the applicant to achieve the stated outcomes and report results within the timeframe of the grant; and (3) the appropriateness of the outcomes with respect to the requested level of funding.

• Project activities leading to an industry-recognized degree or certificate must identify the degree or certificate that participants will earn as a result of the proposed training, and the employer-, industry-, or State-defined standards associated with the degree or certificate. If the degree or certificate targeted by the training project is performance-based, applicants should either: (a) Demonstrate employer engagement in the curriculum development process, or (b) demonstrate that the degree or certificate will translate into concrete job opportunities with an employer.

• If applicable, applicants must provide a comprehensive list of expected deliverables consistent with the project work plan that includes a brief description of the deliverable (such as updated curriculum and outreach materials), the anticipated completion date, and an estimated timeframe and method for electronic delivery to ETA. Electronic delivery may include e-mail for smaller documents, DVDs or other electronic media for transmission of larger files.

iii. Suitability for Evaluation (5 Points)

Under this Solicitation, the Department of Labor seeks to support programs that will provide training that improves participants' employment outcomes. The Department is committed to evaluating program results to assess whether programs meet this goal and which models are most effective, providing a basis for future program improvements and funding decisions. The Department intends to select some portion of grantees to participate in a rigorous evaluation. This section asks for evidence that applicants will be able to participate productively in an evaluation. To receive points under this section, applicants must describe their plans for meeting the following criteria. Specifically, the applicant must:

• Explain a recruitment plan that could yield a large number of qualified applicants for the program, and potentially more applicants than the number of positions available;

• Be able to collect participant-level information on individuals who apply to participate in the program;

• Have project retention strategies to minimize client attrition and help researchers track those who leave the program before completion;

• Work collaboratively with an outside evaluator selected by the Department of Labor;

• Be willing to work with academics who are independent researchers qualified to conduct rigorous research; and

• Provide additional information about why funding this proposal will enhance knowledge about effective programs in a way that has the potential to benefit individuals and communities not directly served by the program.

B. Review and Selection Process

Applications for grants under this solicitation will be accepted after the publication of this announcement and until the closing date. A technical review panel will make careful evaluation of applications against the selection criteria. These criteria are based on the policy goals, priorities, and emphases set forth in this SGA. Up to 100 points may be awarded to an application, depending on the quality of the responses to the required information described in Section V.A. The ranked scores will serve as the primary basis for selection of applications for funding, in conjunction with other factors such as urban, rural, and geographic balance; representation across industries specified in this SGA and applicant types; the availability of funds; and which proposals are most advantageous to the government. The panel results are advisory in nature and not binding on the Grant Officer. The Grant Officer may consider any information that comes to his/her attention. The government may elect to award the grant(s) with or without discussions with the applicants. Should a grant be awarded without discussions, the award will be based on the applicant's signature on the SF 424, which constitutes a binding offer by the applicant including electronic signature via E-Authentication on http://www.grants.gov.

VI. Award Administration Information

A. Award Notices

All award notifications will be posted on the ETA Homepage (http://www.doleta.gov). Applicants selected for award will be contacted directly before the grant's execution and non-selected applicants will be notified by mail. Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions:

i. Non-Profit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 and 98, and, where applicable, 29 CFR parts 96 and 99.

vi. 29 CFR part 2, subpart D—Equal Treatment in Department of Labor Programs for Religious Organizations, Protection of Religious Liberty of Department of Labor Social Service Providers and Beneficiaries.

vii. 29 CFR part 31—Nondiscrimination in Federally Assisted Programs of the Department of Labor—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by the Department of Labor.

x. 29 CFR part 35— Nondiscrimination on the Basis of Age in Programs or Activities Receiving Federal Financial Assistance from the Department of Labor.

xi. 29 CFR part 36—Nondiscrimination on the Basis of Sex in Education Programs or Activities Receiving Federal Financial Assistance.

The following administrative standards and provisions may be applicable:

i. The American Recovery and Reinvestment Act of 2009, Public Law 111-5, 123 Stat. 115, Division A, Title VIII (February 17, 2009).

ii. The Green Jobs Act of 2007, Public Law 110-140, 121 Stat. 1748 (codified at 29 U.S.C. 2916).

iii. The Workforce Investment Act of 1998, Public Law 105-220, 112 Stat. 939 (codified as amended at 29 U.S.C. 2801 et seq.) and 20 CFR part 667 (General Fiscal and Administrative Rules).

iv. 29 CFR part 29 and 30—Apprenticeship and Equal Employment Opportunity in Apprenticeship and Training; and

v. 29 CFR part 37—Implementation of the Nondiscrimination and Equal Opportunity Provisions of the Workforce Investment Act of 1998. The Department notes that the Religious Freedom Restoration Act (RFRA), 42 U.S.C. section 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

vi. Under WIA Section 181(a)(4), health and safety standards established under Federal and State law otherwise applicable to working conditions of employees are equally applicable to working conditions of participants engaged in training and other activities. Applicants that are awarded grants through this SGA are reminded that these health and safety standards apply to participants in these grants.

In accordance with Section 18 of the Lobbying Disclosure Act of 1995 (Pub. L. 104-65) (2 U.S.C. 1611) non-profit entities incorporated under Internal Revenue Service Code section 501(c)(4) that engage in lobbying activities are not eligible to receive Federal funds and grants.

Except as specifically provided in this SGA, DOL's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL's award does not provide the justification or basis to sole source the procurement, i.e., avoid competition, unless the activity is regarded as the primary work of an official partner to the application.

2. Special Program Requirements

i. Evaluation

To measure the impact of grants funded under the SGA, ETA intends to fund one or more independent evaluations, which could include a random-assignment impact evaluation. By accepting funding, grantees must agree to participate in such an evaluation, should their site(s) be selected to participate. Grantees must agree to make records on participants, employers, and funding available and to provide access to program personnel and participants, as specified by the evaluator(s) under the direction of ETA, including after the expiration date of the grant.

ii. Definition of Certificates

A certificate is awarded in recognition of an individual's attainment of measurable technical or occupational skills necessary to gain employment or advance within an occupation. These technical or occupational skills are based on standards developed or endorsed by employers. Certificates awarded by workforce investment boards are not included in this definition. Work readiness certificates are also not included in this definition. A certificate is awarded in recognition of an individual's attainment of technical or occupational skills by:

• A state educational agency or a state agency responsible for administering vocational and technical education within a state.

• An institution of higher education described in Section 102 of the Higher Education Act (20 U.S.C. 1002) that is qualified to participate in the student financial assistance programs authorized by Title IV of that Act. This includes community colleges, proprietary schools, and all other institutions of higher education that are eligible to participate in Federal student financial aid programs.

• A professional, industry, or employer organization (e.g., National Institute for Automotive Service Excellence certification, National Institute for Metalworking Skills, Inc., Machining Level I credential) or a product manufacturer or developer (e.g., Microsoft Certified Database Administrator, Certified Novell Engineer, Sun Certified Java Programmer) using a valid and reliable assessment of an individual's knowledge, skills, and abilities.

• A registered apprenticeship program.

• A public regulatory agency, upon an individual's fulfillment of educational, work experience, or skill requirements that are legally necessary for an individual to use an occupational or professional title or to practice an occupation or profession (e.g., FAA aviation mechanic certification, state certified asbestos inspector).

• A program that has been approved by the Department of Veterans Affairs to offer education benefits to veterans and other eligible persons.

• Job Corps centers that issue certificates.

• Institutions of higher education which is formally controlled, or has been formally sanctioned, or chartered, by the governing body of an Indian tribe or tribes.

iii. Definitions of Populations and Other Key Terms

Organizations submitting an application in response to this SGA should use the following definitions for any of the following populations and/or other key terms that are specifically identified in this SGA:

• Disadvantaged individuals within areas of high poverty: For the purposes of this SGA, disadvantaged individuals are defined as individuals with no incomes or low incomes who live in areas where the poverty rate is 15% or greater and who can benefit from skill training that will help them enter or advance in the energy efficiency and renewable energy industries identified in WIA section 171(e)(1)(B)(ii), and/or will enable them to acquire or enhance skills needed to enter occupations within one or more of the “growth, enhanced, and emerging” green industries referenced in Supplementary Information: Part B of this SGA.

• High school drop-outs: For the purposes of this SGA, ETA defines “high school drop-out” as an individual who is no longer attending any secondary school and who has not received a secondary school diploma or its recognized equivalent.

• Individuals in need of updated training related to the energy efficiency and renewable energy industries: For the purposes of this SGA, this term refers to individuals who are currently employed; or were terminated or laid-off or have received a notice of termination or lay-off from employment; or were self-employed but are now unemployed; and can benefit from training that will help them enter or advance in the energy efficiency and renewable energy industries identified in WIA section 171(e)(1)(B)(ii), and/or will enable them to acquire or enhance skills needed to enter occupations within one or more of the “growth, enhanced, and emerging” green industries referenced in Supplementary Information: Part B of this SGA.

• Individuals with a criminal record: For the purposes of this SGA, ETA defines this term as an individual who is or has been subject to any stage of the juvenile or criminal justice process, for whom services under this Act may be beneficial; or who requires assistance in overcoming artificial barriers to employment resulting from a record of arrest or conviction. ETA includes individuals with a juvenile or criminal record in the definition for this term.

• Unemployed individuals: For the purposes of this SGA, ETA defines “unemployed individual” as an individual who is without a job and who wants and is available to work.

• Veterans: For the purposes of this solicitation, ETA follows the WIA definition of veteran under 29 U.S.C. 2801(49)(A), which defines the term “veteran” as “an individual who served in the active military, naval, or air service, and who was discharged or released from such service under conditions other than dishonorable.” Active military service includes full-time duty (other than full-time duty for training purposes) in Reserve components ordered to active duty, or in National Guard units called to Federal Service by the President.

• Workers impacted by national energy and environmental policy: For the purposes of this SGA, ETA defines this term as individuals who: (1) Are currently employed in an occupation in the utilities; transportation and warehousing; manufacturing; construction; mining, quarrying, and oil and gas extraction; or other sectors that have been adversely affected by national energy and environmental policies; and have received a notice of termination or lay-off from employment; or (2) were employed in an occupation in the utilities; transportation and warehousing; manufacturing; construction; mining, quarrying, and oil and gas extraction; or other sectors that have been adversely affected by national energy and environmental policies; and are now unemployed.

• National labor-management organization: A national labor-management organization is a nonprofit entity, such as a training fund, training trust fund, or an education trust fund, with joint participation of employers and labor organizations on its executive board or comparable governing body. This entity must have a formalized agreement between the employer(s) and labor organization(s) to operate a joint labor management training program(s) in multiple sites across the country through the state, local, or regional networks affiliated with the nonprofit entity.

• U.S. territories: For the purposes of this SGA, the term “U.S. territories” includes the Commonwealth of Puerto Rico, as well as the following outlying areas: the United States Virgin Islands, Guam, American Samoa, the Commonwealth of the Northern Mariana Islands, the Republic of the Marshall Islands, the Federated States of Micronesia, and the Republic of Palau.

3. American Recovery and Reinvestment Act of 2009 (Pub. L. 111-5) Provisions

Prospective applicants are advised that, if they receive an award, they must comply with all requirements of the American Recovery and Reinvestment Act of 2009 [Pub. L. 111-5]. Applicants are advised to review the Act and implementing OMB guidance in the development of their proposals. Requirements include, but are not limited to:

• Adherence to all grant clauses and conditions as they relate to Recovery Act activity.

• Prohibition on expenditure of funds for activities at any casino or other gambling establishment, aquarium, zoo, golf course or swimming pool.

• Compliance with the requirements to obtain a D-U-N-S® Number and register with the Central Contractor Registry (CCR). ETA will issue additional guidance related to this requirement shortly.

• Submission of required reports in accordance with Section 1512 of the Recovery Act. These reports will be due quarterly within 10 days of the end of the reporting period and are in addition to the ETA required reports addressed in Section VI.C of this SGA. ETA will issue additional guidance related to these reports and their submission requirements shortly.

Implementing OMB guidance may be found at http://www.recovery.gov.

C. Reporting

Quarterly financial reports, quarterly progress reports, and MIS data will be submitted by the grantee electronically. The grantee is required to provide the reports and documents listed below:

1. Quarterly Financial Reports

A Quarterly Financial Status Report (ETA 9130) is required until such time as all funds have been expended or the grant period has expired. Quarterly reports are due 45 days after the end of each calendar year quarter. Grantees must use DOL's On-Line Electronic Reporting System and information and instructions will be provided to grantees.

2. Quarterly Performance Reports

The grantee must submit a quarterly progress report within 45 days after the end of each calendar year quarter. In order to submit these quarterly reports, grantees will be expected to track participant-level data regarding the individuals that are involved in training and other services provided through the grant and report on participant status in a variety of fields and outcome categories, as well as provide narrative information on the status of the grant. The last quarterly progress report that grantees submit will serve as the grant's Final Performance Report. This report should provide both quarterly and cumulative information on the grant's activities. It must summarize project activities, employment outcomes and other deliverables, and related results of the project, and should thoroughly document the training or labor market information approaches utilized by the grantee. DOL will provide grantees with formal guidance about the data and other information that is required to be collected and reported on either a regular basis or special request basis. Grantees must agree to meet DOL reporting requirements.

3. Record Retention

Applicants should be aware of Federal guidelines on record retention, which require grantees to maintain all records pertaining to grant activities for a period of not less than three years from the time of final grant close-out.

VII. Agency Contacts

For further information regarding this SGA, please contact Melissa Abdullah, Grants Management Specialist, Division of Federal Assistance, at (202) 693-3346 (This is not a toll-free number). Applicants should e-mail all technical questions to Abdullah.Melissa@dol.gov and must specifically reference SGA/DFA PY 08-19, and along with question(s), include a contact name, fax and phone number. This announcement is being made available on the ETA Web site at http://www.doleta.gov/grants and at http://www.grants.gov.

VIII. Additional Resources of Interest to Applicants

A. Instructions for Identifying Public Use Microdata Areas (PUMAs) and Locating Poverty Rates

Refer to the guidance below for help in locating the poverty data information described in Section V.A.1.i:

1. Identify PUMA(s) To Be Served

As described in Section III.C.2 and Section V.A.1.i, applicants must identify, for each community served, the one or more contiguous Public Use Microdata Areas (PUMAs) that the project will serve. PUMAs are geographic statistical areas designated by the U.S. Census Bureau. To locate the appropriate 5-digit PUMA code(s), applicants can find PUMA maps for each State at http://www.census.gov/geo/www/maps/puma5pct.htm. Applicants can also utilize the PUMA Lookup spreadsheet available for download at http://www.workforce3one.org/view/2000916359265073156/info. This spreadsheet provides PUMA codes sorted by State and area name (such as townships, cities, and counties).

2. Locating Poverty Rate for Each PUMA

As described in Section V.A.1.i, applicants must provide the poverty rate for each PUMA identified. After locating the appropriate 5-digit PUMA code(s), utilize the Poverty Data spreadsheet to identify the poverty rate for each PUMA, which is found in the rightmost column of the spreadsheet on Tab 1. Note that this spreadsheet has three Tabs, listing poverty rates for: (1) United States, DC, and Puerto Rico; (2) American Indian Areas, Alaskan Native Areas, and Hawaiian Home Lands; and (3) Outlying Areas. Download the spreadsheet from http://www.workforce3one.org/view/2000916359251042484/info. The data for Tab 1 were obtained from the U.S. Census Bureau's 2005-2007 American Community Survey (ACS) 3-Year Estimates. Because ACS data is not currently available for many American Indian Areas, Alaska Native Areas, Hawaiian Homelands, and outlying areas, data for Tabs 2 and 3 were obtained from the 2000 Decennial Census. Applicants proposing to serve PUMAs, American Indian Areas, Alaska Native Areas, Hawaiian Homelands, or outlying areas that are not listed in the Poverty Data spreadsheet should use, and cite, another appropriate data source for poverty rate information.

B. Other Web-Based Resources

DOL maintains a number of Web-based resources that may be of assistance to applicants. America's Service Locator (http://www.servicelocator.org) provides a directory of our nation's One Stop Career Centers.

C. Industry Competency Models

ETA supports an Industry Competency Model Initiative to promote an understanding of the skill sets and competencies that are essential to an educated and skilled workforce. A competency model is a collection of competencies that taken together define successful performance in a particular work setting. Competency models serve as a starting point for the design and implementation of workforce and talent development programs. To learn about the industry-validated models visit the Competency Model Clearinghouse (CMC) at http://www.careeronestop.org/CompetencyModel. The CMC site also provides tools to build or customize industry models, as well as tools to build career ladders and career lattices.

D. Federal Collaboration

DOL encourages other Federal partners to recommend or require, where appropriate, that organizations receiving Recovery Act funding list jobs created with their state public labor exchange. The Department is developing specific strategies to link job listings, training opportunities and placement among programs funded by Departments of Housing and Urban Development, Energy, Education, and the Environmental Protection Agency. Where the grantee is not the public workforce system, they are strongly encouraged to work with the local One Stop Career Center to make these connections.

E. Links to Federal Recovery Sites

For specific information on a range of Federal agency Recovery Act activities and funding opportunities:

• Department of Education: http://www.ed.gov/policy/gen/leg/recovery/index.html.

• Department of Energy: http://www.doe.gov/recovery.

• Department of Housing and Urban Development: http://www.hud.gov/recovery.

• Department of Transportation: http://www.dot.gov/recovery/.

• Environmental Protection Agency: http://www.epa.gov/recovery.

F. Promising Training Approaches

ETA encourages applicants to research promising training approaches in order to inform their proposals. The following list of Web sites provides a starting place for this research, but by no means should be considered a complete list:

• ETA's home site (http://www.doleta.gov) and the ETA Research Publication Database (http://wdr.doleta.gov/research/keyword.cfm).

• ETA's knowledge sharing site (http://www.workforce3one.org), including the “workforce solutions” section that contains over 6,000 additional resources applicants may find valuable in developing workforce strategies and solutions.

• The National Governors Association Center for Best Practices (http://www.nga.org).

• The National Association of State Workforce Agencies (http://www.workforceatm.org).

• The National Association of Workforce Boards (http://www.nawb.org).

IX. Other Information

OMB Information Collection No. 1225-0086

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Department of Labor, in the Office of Management and Budget, Room 10235, Washington, DC 20503. Please do not return the completed application to the OMB. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 19th day of June, 2009.
Donna Kelly,
Grant Officer, Employment and Training Administration.

[FR Doc. E9-14928 Filed 6-23-09; 8:45 am]

BILLING CODE 4510-FN-P